DEPARTMENT OF EDUCATION

Applications for New Awards; Native Hawaiian Education Program; Amendment

AGENCY: Office of Elementary and Secondary Education, Department of Education.

ACTION: Notice; amendment.

SUMMARY: On December 13, 2019, we published in the Federal Register a notice inviting applications (NIA) for new awards for fiscal year (FY) 2020 for the Native Hawaiian Education (NHE) program, Catalog of Federal Domestic Assistance (CFDA) number 84.362A. Since that time, Congress passed and the President signed the Department of Education Appropriations Act, 2020 (Act), which provides funding for the awards under this competition. For fiscal year (FY) 2020, the Act overrides the limitation in section 6205(b) of the Elementary and Secondary Education Act of 1965, as amended by the Every Student Succeeds Act (ESEA), to provide that the 5 percent limitation on the use of funds for administrative purposes applies only to direct administrative costs. This document amends the NIA to clearly indicate that the administrative cost cap in ESEA section 6205(b) applies only to direct administrative costs for grants awarded using FY 2020 appropriations.

DATES: Deadline for Transmittal of Applications: February 11, 2020.

FOR FURTHER INFORMATION CONTACT: Joanne Osborne, U.S. Department of Education, 400 Maryland Avenue SW, Room 3E306, Washington, DC 20202. Telephone: (202) 401-1265. Email: Hawaiian@ed.gov.

If you use a telecommunications device for the deaf (TDD) or a text telephone (TTY), call the Federal Relay Service, toll free, at 1-800-877-8339.

SUPPLEMENTARY INFORMATION: Following publication of the NIA (84 FR 68154), Congress passed and the President signed the Act, which provides funding for the awards under this competition. The Act provides that the 5 percent limitation in section 6205(b) of the ESEA on the use of funds for administrative purposes applies only to direct administrative costs. Accordingly, we are amending the NIA to notify prospective applicants that no more than five percent of funds awarded for a FY 2020 grant under this program may be used for direct administrative costs. Pursuant to this language, for funds awarded in this competition for the NHE program, this five percent limit only includes direct administrative costs, and not indirect costs.

All other requirements and conditions stated in the NIA remain the same.

Amendments

In FR Doc. No. 2019-26944, in the Federal Register of December 13, 2019 (84 FR 68154), on page 68157, in the middle column, we are replacing the text after the heading “Funding Restrictions:” with the following:

No more than five percent of FY 2020 funds awarded for a grant under this program may be used for direct administrative costs (ESEA section 6205(b) and the Department of Education Appropriations Act, 2020 (the Act)). This five percent limit does not include indirect costs.

Note: Pursuant to ESEA section 6205(b), in this competition under this program, the five percent limit includes direct and indirect administrative costs. However, in the Act, Congress explicitly specified that for FY 2020 funds the administrative cost cap refers only to direct administrative costs.

We reference regulations outlining additional funding restrictions in the Applicable Regulations section of this notice.

Program Authority: Section 6205 of the ESEA (20 U.S.C. 7515).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Dated: January 15, 2020.
Frank T. Brogan,
Assistant Secretary for Elementary and Secondary Education.

[FR Doc. 2020-00864 Filed 1-17-20; 8:45 am]

BILLING CODE 4000-01-P